DEPARTMENT OF COMMERCE

National Oceanic and Atmospheric Administration

RIN 0648-XB62

Caribbean Fishery Management Council; Public Meeting

AGENCY: National Marine Fisheries Service (NMFS), National Oceanic and Atmospheric Administration (NOAA), Commerce.

ACTION: Notice of public meetings.

SUMMARY: The Caribbean Fishery Management Council (Council) and its Administrative Committee will hold meetings.

DATES: The meetings will be held on August 14-15, 2007. The Council will convene on Tuesday, August 14, 2007, from 9 a.m. to 5 p.m., and the Administrative Committee will meet from 5:15 p.m. to 6 p.m., on that same day. The Council will reconvene on Wednesday, August 15, 2007, from 9 a.m. to 5 p.m., approximately.

ADDRESSES: The meetings will be held at the Carambola Beach Resort, Estate Davis Bay, St. Croix, U.S.V.I 00850

FOR FURTHER INFORMATION CONTACT: Caribbean Fishery Management Council, 268 Munoz Rivera Avenue, Suite 1108, San Juan, Puerto Rico 00918-1920, telephone: (787) 766-5926.

SUPPLEMENTARY INFORMATION: The Council will hold its 125th regular public meeting to discuss the items contained in the following agenda:

August 14, 2007

9 a.m. to 5 p.m.

Call to Order

Election of Officials

Adoption of Agenda

Consideration of 124th Council Meeting Verbatim Transcription

Executive Director's Report

White Paper on the Sale of Catch by Charter/Recreational Fishers in the US Caribbean - Graciela Garcia-Moliner

Options Paper on Trap Vents - Graciela Garcia-Moliner

Deep Water Coral Reef - MCBI

Update Deep Water Coral Reef Survey - Jorge R. Garcia-Sais

Caribbean Lobster Initiative

5:15 p.m. to 6 p.m.

Administrative Committee Meeting

-AP/SSC/HAP Membership

-Budget 2007

-SOPPs Amendment

-Other Business

August 15, 2007

8:30 a.m. to 5 p.m.

HMS Presentation on Proposed Measures for Sharks

Marine Mammals Protection Act Proposed Rule for 2008 - Jennifer Lee

Enforcement Reports

-Puerto Rico

-U.S. Virgin Islands

-Federal and Local Jurisdiction on Mutton Snapper

-NOAA

-U.S. Coast Guard

ACLs Meeting Report - Graciela Garcia-Moliner

Administrative Committee Recommendations

Meetings Attended by Council Members and Staff

Other Business

Next Council Meeting

The meetings are open to the public, and will be conducted in English. Fishers and other interested persons are invited to attend and participate with oral or written statements regarding agenda issues.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. For more information or request for sign language interpretation and/other auxiliary aids, please contact Mr. Miguel A. Rolon, Executive Director, Caribbean Fishery Management Council, 268 Munoz Rivera Avenue, Suite 1108, San Juan, Puerto Rico, 00918-2577, telephone: (787) 766-5926, at least 5 days prior to the meeting date.

Dated: July 19, 2007.
Tracey L. Thompson,
Acting Director, Office of Sustainable Fisheries, National Marine Fisheries Service.

[FR Doc. E7-14280 Filed 7-23-07; 8:45 am]

BILLING CODE 3510-22-S